DEPARTMENT OF EDUCATION

Office of Elementary and Secondary Education; Overview Information; Early Reading First Program; Notice Inviting Applications for New Awards for Fiscal Year (FY) 2007

Catalog of Federal Domestic Assistance (CFDA) Numbers: 84.359A and B.

Dates: Applications Available: January 22, 2007.

Deadline for Transmittal of Pre-Applications: February 21, 2007.

Deadline for Transmittal of Full Applications: May 29, 2007 (for applicants invited to submit full applications only).

Deadline for Intergovernmental Review: July 30, 2007.

Eligible Applicants: Under this competition, eligible applicants are (a) one or more local educational agencies (LEAs) that are eligible to receive a subgrant under the Reading First program (Title I, Part B, Subpart 1 of the Elementary and Secondary Education Act of 1965, as amended (ESEA)); (b) one or more public or private organizations or agencies (including faith-based organizations) located in a community served by an eligible LEA; or (c) one or more eligible LEAs, applying in collaboration with one or more eligible organizations or agencies. To qualify under paragraph (b) of this definition, the organization's or agency's application must be on behalf of one or more programs that serve preschool age children (such as a Head Start program, a child care program, or a family literacy program such as Even Start, or a lab school at a university), unless the organization or agency itself operates a preschool program. A list of eligible LEAs that qualify under paragraph (a) of this definition for this FY 2007 competition will be posted on the Early Reading First Web site at http://www.ed.gov/programs/earlyreading/index.html. If a State changes its Reading First program eligibility list after the date of publication of this notice, those changes will not affect an LEA's eligibility for the purpose of this FY 2007 Early Reading First program competition.

Estimated Available Funds: The Administration has requested $103,118,000 for this program for FY 2007, of which we anticipate $102,087,000 would be available for grants awarded under this competition. The actual level of funding, if any, depends on final congressional action. However, we are inviting applications to allow enough time to complete the grant process before the end of the current fiscal year if Congress appropriates funds for this program.

Estimated Range of Awards: $1,500,000-$4,500,000.

Estimated Average Size of Awards: $3,000,000.

Estimated Number of Awards: 23-68.

Note: The Department is not bound by any estimates in this notice.

Project Period: Up to 36 months.

Full Text of Announcement

I. Funding Opportunity Description

Purpose of Program: This program supports local efforts to enhance the oral language, cognitive, and early reading skills of preschool age children especially those from low-income families, through strategies, materials, and professional development that are grounded in scientifically based reading research.

The specific activities for which recipients must use grant funds are identified in the program statute, which is included in the application package.

Priorities: This competition includes two (2) invitational priorities and one competitive preference priority.

Under this competition we are particularly interested in applications that address the following invitational priorities.

Invitational Priorities: For FY 2007 these priorities are invitational priorities. Under 34 CFR 75.105(c)(1) we do not give an application that meets these invitational priorities a competitive or absolute preference over other applications.

These priorities are:

Invitational Priority 1—Intensity. The Secretary is especially interested in preschool programs that operate full-time, full-year early childhood educational programs, at a minimum of 6.5 hours per day, 5 days per week, 46 weeks per year, and that serve children for the two consecutive years prior to their entry into kindergarten.

Scientifically based research on increasing the effectiveness of early childhood education programs serving children from low-income families tells us that children attending such programs that have a greater intensity of service make higher and more persistent gains in the language and cognitive domains than children who attend early childhood programs that have lesser intensity of service. In other words, children who spend more time in high-quality early childhood education programs learn more than children who spend less time in those programs. The purpose of this invitational priority is to encourage preschool programs supported with Early Reading First funds to provide services that are of a sufficient duration and intensity to maximize language and early literacy gains for children enrolled in those programs.

Invitational Priority 2—English Language Acquisition Plan.

For applicants serving children with limited English proficiency, the Secretary is especially interested in applications that include a specific plan for the development of English language proficiency for these children from the start of their preschool experience. The Early Reading First program is designed to prepare children to enter kindergarten with the necessary cognitive, early language, and literacy skills for success in school. School success often is dependent on each child entering kindergarten as proficient as possible in English so that the child is ready to benefit from formal reading instruction in English when he or she starts school.

Note: The term “limited English proficient” is defined in section 9101(25) of the ESEA (20 U.S.C. 7801(25)). That definition is included in the application package.

An English language acquisition plan should, at a minimum: (1) Include a description of the applicant's approach to the development of language, based on the linguistic factors or skills that serve as the foundation for a strong language base, which foundation is a necessary precursor for success in the development of pre-literacy and literacy skills for children with limited English proficiency; (2) explain the instructional strategies, based on best available valid and reliable research, that the applicant will use to address English language acquisition in a multi-lingual classroom; (3) describe how the project will facilitate the children's transition to English proficiency through such means as the use of environmental print in appropriate multiple languages, and hiring bilingual teachers, paraprofessionals, or translators to work in the preschool classroom; (4) include intensive professional development for instructors and paraprofessionals on the development of English language proficiency; and (5) include a timeline that describes benchmarks for the introduction of the development of English language proficiency and use of measurement tools.

Ideally, at least one instructional staff member in each Early Reading First classroom should be dual-language proficient, both in a child's first language and in English, to facilitate the children's understanding of instruction and transition to English proficiency. At a minimum, each classroom should include a teacher who is proficient in English.

Competitive Preference Priority: In accordance with 34 CFR 75.105(b)(2)(ii), this priority is from § 75.225 of the Education Department General Administrative Regulations (EDGAR), which apply to this program (34 CFR 75.225).

Competitive Preference Priority—Novice Applicant

For FY 2007 this priority is a competitive preference priority. Under 34 CFR 75.105(c)(2)(i) we award an additional five (5) points to a pre-application and an additional five (5) points to a full application meeting this competitive preference priority.

This priority is:

Novice Applicant. The applicant must be a “novice applicant” as defined in 34 CFR 75.225.

Program Authority: 20 U.S.C. 6371-6376.

Applicable Regulations: EDGAR in 34 CFR parts 74, 75, 77, 79, 80, 81, 82, 84, 85, 86, 97, 98, and 99 as applicable.

Note: The regulations in 34 CFR part 79 apply to all applicants except federally recognized Indian tribes.

Note: The regulations in 34 CFR part 86 apply to institutions of higher education only.

II. Award Information

Type of Award: Discretionary grant.

Estimated Available Funds: The Administration has requested $103,118,000 for this program for FY 2007, of which we anticipate $102,087,000 would be available for grants awarded under this competition. The actual level of funding, if any, depends on final congressional action. However, we are inviting applications to allow enough time to complete the grant process before the end of the current fiscal year if Congress appropriates funds for this program.

Estimated Range of Awards: $1,500,000-$4,500,000.

Estimated Average Size of Awards: $3,000,000.

Estimated Number of Awards: 23-68.

Note: The Department is not bound by any estimates in this notice.

Project Period: Up to 36 months.

III. Eligibility Information

1. Eligible Applicants: Under this competition, eligible applicants are (a) one or more LEAs that are eligible to receive a subgrant under the Reading First program (Title I, Part B, Subpart 1 of the ESEA); (b) one or more public or private organizations or agencies (including faith-based organizations) located in a community served by an eligible LEA; or (c) one or more eligible LEAs, applying in collaboration with one or more eligible organizations or agencies. To qualify under paragraph (b) of this definition, the organization's or agency's application must be on behalf of one or more programs that serve preschool age children (such as a Head Start program, a child care program, or a family literacy program such as Even Start, or a lab school at a university), unless the organization or agency itself operates a preschool program. A list of eligible LEAs that qualify under paragraph (a) of this definition for this FY 2007 competition will be posted on the Early Reading First Web site at http://www.ed.gov/programs/earlyreading/index.html If a State changes its Reading First program eligibility list after the date of publication of this notice, those changes will not affect an LEA's eligibility for the purpose of this FY 2007 Early Reading First program competition.

2. Cost Sharing or Matching: This program does not involve cost sharing or matching.

IV. Application and Submission Information

1. Address To Request Application Package: You may obtain an application package via the Internet or from the Education Publications Center (ED Pubs). To obtain an application via the Internet, use the following Web address: http://www.ed.gov/programs/earlyreading/applicant.html.

To obtain a copy from ED Pubs, write or call the Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application package from ED Pubs, be sure to identify this competition as follows: CFDA numbers 84.359A and B.

Individuals with disabilities may obtain a copy of the application package in an alternative format (e.g., Braille, large print, audiotape, or computer diskette) by contacting the program contact person listed in section VII of this notice.

2. Content and Form of Application Submission: Requirements concerning the content of the pre-application and the full application, together with the forms you must submit, are in the application package for this competition. All applicants must apply in the pre-application phase; as explained in the application package, only selected applicants will be invited to submit a full application.

Page Limits: You must include in Part I of the pre- and full applications an Abstract briefly describing your proposed project. You must limit each Abstract to one (1) page.

The pre-application narrative and the full application narrative for this program (Part II of the pre- and full applications) are where you, the applicant, address the selection criteria that reviewers use to evaluate your pre- and full applications. You must limit Part II of the pre-application to the equivalent of no more than twelve (12) pages and Part II of the full application to no more than thirty-five (35) pages.

Part III of the pre-application is where you, the applicant, provide the Appendices. Pre-application Appendices are limited to the following: A list and a brief description of the existing preschool programs that the proposed Early Reading First project would support; an English language acquisition plan, if applicable; and endnote citations for research cited specifically in the pre-application narrative. You must limit the list and the brief description of the existing preschool programs to the equivalent of no more than five (5) pages. You must limit any English language acquisition plan to the equivalent of no more than two (2) pages for the pre-application. No page limit applies to the pre-application endnote citations.

Part III of the full application is where you, the applicant, provide a budget narrative that reviewers use to evaluate your full application. You must limit the budget narrative in Part III of the full application to the equivalent of no more than five (5) pages.

Part IV of the full application is where you, the applicant, provide the Appendices. Full application Appendices are limited to the following: A list and a brief description of the existing preschool programs that the proposed Early Reading First project would support; an English language acquisition plan, if applicable; position descriptions (and resumes or curriculum vitae if available) for up to five (5) key personnel; endnote citations for research cited specifically in the full application narrative; and documentation demonstrating the stakeholder support for the project. You must limit the list and the brief description of the existing preschool programs to the equivalent of no more than five (5) pages. You must limit each resume or curriculum vitae to the equivalent of no more than three (3) pages each, and limit the documentation demonstrating stakeholder support for the project to the equivalent of no more than five (5) pages. You must limit any English language acquisition plan to the equivalent of no more than five (5) pages for the full application.

For all page limits, use the following standards:

• A “page” is 8.5″ x 11″, on one side only, with 1″ margins at the top, bottom, and both sides.

• Double space (no more than three lines per vertical inch) all text in the application and budget narratives, including titles, headings, quotations, references, and captions included in the body of the narrative.

• Text in endnotes, charts, tables, figures, and graphs may be single-spaced.

• Use one of the following commonly used 12-point fonts, including for text in endnotes, charts, tables, figures, and graphs: Times New Roman, Times, Courier, or CG Times.

The page limits do not apply to any title page or table of contents, or the forms in Part I of the pre- and full applications; or the following portions of the full application: The budget form (ED Form 524) in Part III; or in Part IV, to the assurances and certifications and the endnotes.

Our reviewers will not read any pages of your pre-application or full application that—

• Exceed the page limit if you apply these standards; or

• Exceed the equivalent of the page limit if you apply other standards.

3. Submission Dates and Times:

Applications Available: January 22, 2007.

Deadline for Transmittal of Pre-Applications: February 21, 2007.

Deadline for Transmittal of Full Applications: May 29, 2007 (for applicants invited to submit full applications only).

Pre- and full applications for grants under this competition must be submitted electronically using the Grants.gov Apply site (Grants.gov). For information (including dates and times) about how to submit your application electronically, or by mail or hand delivery if you qualify for an exception to the electronic submission requirement, please refer to section IV. 6. Other Submission Requirements in this notice.

We do not consider an application that does not comply with the deadline requirement.

Individuals with disabilities who need an accommodation or auxiliary aid in connection with the application process should contact the person listed under For Further Information Contact. Deadline for Intergovernmental Review: July 30, 2007.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Pre- and full applications for grants under this competition must be submitted electronically unless you qualify for an exception to this requirement in accordance with the instructions in this section.

a. Electronic Submission of Applications.

Pre- and full applications for grants under the Early Reading First program, CFDA Number 84.359A (pre-application) and CFDA Number 84.359B (full application) must be submitted electronically using the Governmentwide Grants.gov Apply site at http://www.Grants.gov. Through this site, you will be able to download a copy of the application package, complete it offline, and then upload and submit your pre- or full application. You may not e-mail an electronic copy of a grant application to us.

We will reject your pre- or full application if you submit it in paper format unless, as described elsewhere in this section, you qualify for one of the exceptions to the electronic submission requirement and submit, no later than two weeks before the pre- or full application deadline date, a written statement to the Department that you qualify for one of these exceptions. Further information regarding calculation of the date that is two weeks before the pre- or full application deadline date is provided later in this section under Exception to Electronic Submission Requirement.

You may access the electronic grant application for the Early Reading First program at Grants.gov. You must search for the downloadable application package for this program or competition by the CFDA number. Do not include the CFDA number's alpha suffix in your search (e.g., search for 84.359, not 84.359A).

Please note the following:

• When you enter the Grants.gov site, you will find information about submitting an application electronically through the site, as well as the hours of operation.

• Applications received by Grants.gov are date and time stamped. Your pre- and full applications must be fully uploaded and submitted, and must be date and time stamped by the Grants.gov system no later than 4:30 p.m., Washington, DC time, on the pre- or full application deadline date. Except as otherwise noted in this section, we will not consider your pre- or full application if it is date and time stamped by the Grants.gov system later than 4:30 p.m., Washington, DC time, on the pre- or full application deadline date. When we retrieve your pre- or full application from Grants.gov, we will notify you if we are rejecting your pre- or full application because it was date and time stamped by the Grants.gov system after 4:30 p.m., Washington, DC time, on the pre- or full application deadline date.

• The amount of time it can take to upload an application will vary depending on a variety of factors including the size of the application and the speed of your Internet connection. Therefore, we strongly recommend that you do not wait until the pre- or full application deadline date to begin the submission process through Grants.gov.

• You should review and follow the Education Submission Procedures for submitting an application through Grants.gov that are included in the application package for this competition to ensure that you submit your pre- and any full application in a timely manner to the Grants.gov system. You can also find the Education Submission Procedures pertaining to Grants.gov at http://e-Grants.ed.gov/help/GrantsgovSubmissionProcedures.pdf.

• To submit your pre- or full application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your pre- and full application the same D-U-N-S Number used with this registration. Please note that the registration process may take five or more business days to complete, and you must have completed all registration steps to allow you to submit successfully a pre- or full application via Grants.gov. In addition, you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your pre- and full applications as files in a .DOC (document), .RTF (rich text), or .PDF (Portable Document) format. If you upload a file type other than the three file types specified in this paragraph or submit a password-protected file, we will not review that material.

• Your electronic pre- and full applications must comply with any page-limit requirements described in this notice.

• After you electronically submit your pre- or full application, you will receive from Grants.gov an automatic notification of receipt that contains a Grants.gov tracking number. (This notification indicates receipt by Grants.gov only, not receipt by the Department.) The Department then will retrieve your pre- or full application from Grants.gov and send a second notification to you by e-mail. This second notification indicates that the Department has received your application and has assigned your application a PR/Award number (an ED-specified identifying number unique to your pre- or full application).

• We may request that you provide us original signatures on forms at a later date.

Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your pre- or full application on the pre- or full application deadline dates because of technical problems with the Grants.gov system, we will grant you an extension until 4:30 p.m., Washington, DC time, the following business day to enable you to transmit your pre- or full application electronically or by hand delivery. You also may mail your pre- and full applications by following the mailing instructions described elsewhere in this notice.

If you submit a pre- or full application after 4:30 p.m., Washington, DC time, on the pre- or full application deadline date, please contact the person listed elsewhere in this notice under FOR FURTHER INFORMATION CONTACT and provide an explanation of the technical problem you experienced with Grants.gov, along with the Grants.gov Support Desk Case Number. We will accept your pre- or full application if we can confirm that a technical problem occurred with the Grants.gov system and that that problem affected your ability to submit your pre- or full application by 4:30 p.m., Washington, DC time, on the pre- or full application deadline date. The Department will contact you after a determination is made on whether your pre- or full application will be accepted.

Note: The extensions to which we refer in this section apply only to the unavailability of, or technical problems with, the Grants.gov system. We will not grant you an extension if you failed to fully register to submit your pre- or full application to Grants.gov before the pre- or full application deadline date and time or if the technical problem you experienced is unrelated to the Grants.gov system.

Exception to Electronic Submission Requirement: You qualify for an exception to the electronic submission requirement, and may submit your pre- or full application in paper format, if you are unable to submit a pre- or full application through the Grants.gov system because—

• You do not have access to the Internet; or

• You do not have the capacity to upload large documents to the Grants.gov system;

and

• No later than two weeks before the pre- or full application deadline date (14 calendar days or, if the fourteenth calendar day before the pre- or full application deadline date falls on a Federal holiday, the next business day following the Federal holiday), you mail or fax a written statement to the Department, explaining which of the two grounds for an exception prevent you from using the Internet to submit your pre- or full application.

If you mail your written statement to the Department, it must be postmarked no later than two weeks before the pre- or full application deadline date. If you fax your written statement to the Department, we must receive the faxed statement no later than two weeks before the pre- or full application deadline date.

Address and mail or fax your statement to Pilla Parker, U.S. Department of Education, 400 Maryland Avenue, SW., room 3C136, Washington, DC 20202-6132. Telephone: (202) 260-3710. FAX: (202) 260-7764; or Rebecca Haynes, U.S. Department of Education, 400 Maryland Avenue, SW., Room 3C138, Washington, DC 20202-6132. Telephone: (202) 260-0968. FAX: (202) 260-7764.

Your paper pre- or full application must be submitted in accordance with the mail or hand delivery instructions described in this notice.

b. Submission of Paper Applications by Mail.

If you qualify for an exception to the electronic submission requirement, you may mail (through the U.S. Postal Service or a commercial carrier) your pre- or full application to the Department. You must mail the original and two copies of your pre- or full application, on or before the pre- or full application deadline date, to the Department at the applicable following address:

By mail through the U.S. Postal Service: U.S. Department of Education, Application Control Center, Attention: (CFDA Numbers 84.359A and B), 400 Maryland Avenue, SW., Washington, DC 20202-4260.

or

By mail through a commercial carrier: U.S. Department of Education, Application Control Center, Stop 4260, Attention: (CFDA Numbers 84.359A and B), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your pre- or full application through the U.S. Postal Service, we do not accept either of the following as proof of mailing:

(1) A private metered postmark.

(2) A mail receipt that is not dated by the U.S. Postal Service.

If your pre- or full application is postmarked after the pre- or full application deadline date, we will not consider your pre- or full application.

Note: The U.S. Postal Service does not uniformly provide a dated postmark. Before relying on this method, you should check with your local post office.

c. Submission of Paper Applications by Hand Delivery.

If you qualify for an exception to the electronic submission requirement, you (or a courier service) may deliver your paper pre- or full application to the Department by hand. You must deliver the original and two copies of your pre- or full application by hand, on or before the pre- or full application deadline date, to the Department at the following address: U.S. Department of Education, Application Control Center, Attention: (CFDA Numbers 84.359A and B), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your pre- or full application to the Department:

(1) You must indicate on the envelope and—if not provided by the Department—in Item 11 of the SF 424 the CFDA number, including the suffix letter, if any, of the competition under which you are submitting your pre- or full application; and

(2) The Application Control Center will mail to you notification of receipt of your grant application. If you do not receive this notification within 15 business days from the pre- or full application deadline date, you should call the U.S. Department of Education Application Control Center at (202) 245-6288.

V. Application Review Information

1. Selection Criteria: This program has separate selection criteria for pre-applications and full applications.

A. Pre-applications: The following selection criteria for pre-applications are from 34 CFR 75.210 of EDGAR. Further information about each of these selection criteria is in the application package. There are two selection criteria, Need for Project and Quality of the Project Design. The maximum score for the pre-application selection criteria is 100 points.

(i) Need for project (0-20 points)

The Secretary considers the need for the proposed project. In determining the need for the proposed project, the Secretary considers the following factors:

(a) The extent to which the proposed project will provide services or otherwise address the needs of students at risk of educational failure. (34 CFR 75.210(a)(2)(iii))

(b) The extent to which the proposed project will focus on serving or otherwise addressing the needs of disadvantaged individuals. (34 CFR 75.210(a)(2)(iv))

(ii) Quality of the project design (0-80 points)

The Secretary considers the quality of the design of the proposed project. In determining the quality of the design of the proposed project, the Secretary considers the following factors:

(a) The extent to which the design of the proposed project reflects up-to-date knowledge from research and effective practice. (34 CFR 75.210(c)(2)(xiii))

(b) The extent to which the proposed project represents an exceptional approach for meeting statutory purposes and requirements. (34 CFR 75.210(c)(2)(xiv))

(c) The extent to which the proposed project will be coordinated with similar or related efforts, and with other appropriate community, State, and Federal resources. (34 CFR 75.210(c)(2)(xvi))

B. Full Application: The following selection criteria for those invited to submit full applications are from 34 CFR 75.210 of EDGAR. Further information about each of these selection criteria is in the application package. The maximum score for each criterion is indicated after the title of the criterion. The maximum score for the full application selection criteria is 100 points.

(i) Quality of the project design (0-60 points)

The Secretary considers the quality of the design of the proposed project. In determining the quality of the design of the proposed project, the Secretary considers the following factors:

(a) The extent to which the design of the proposed project reflects up-to-date knowledge from research and effective practice. (34 CFR 75.210(c)(2)(xiii))

(b) The extent to which the proposed project represents an exceptional approach for meeting statutory purposes and requirements. (34 CFR 75.210(c)(2)(xiv))

(c) The extent to which the proposed project will be coordinated with similar or related efforts, and with other appropriate community, State, and Federal resources. (34 CFR 75.210(c)(2)(xvi))

(ii) Quality of project personnel (0-10 points)

The Secretary considers the quality of the personnel who will carry out the proposed project. In determining the quality of project personnel, the Secretary considers the extent to which the applicant encourages applications for employment from persons who are members of groups that have traditionally been underrepresented based on race, color, national origin, gender, age, or disability. (34 CFR 75.210(e)(1), (2))

In addition, the Secretary considers the following factors:

(a) The qualifications, including relevant training and experience, of the project director or principal investigator. (34 CFR 75.210(e)(3)(i))

(b) The qualifications, including relevant training and experience, of key project personnel. (34 CFR 75.210(e)(3)(ii))

(c) The qualifications, including relevant training and experience, of project consultants or subcontractors. (34 CFR 75.210(e)(3)(iii))

(iii) Adequacy of resources (0-5 points)

The Secretary considers the adequacy of resources for the proposed project. In determining the adequacy of resources for the proposed project, the Secretary considers the following factors:

(a) The relevance and demonstrated commitment of each partner in the proposed project to the implementation and success of the project. (34 CFR 75.210(f)(2)(ii))

(b) The extent to which the costs are reasonable in relation to the objectives, design, and potential significance of the proposed project. (34 CFR 75.210(f)(2)(iv))

(iv) Quality of the management plan (0-15 points)

The Secretary considers the quality of the management plan for the proposed project. In determining the quality of the management plan for the proposed project, the Secretary considers the following factors:

(a) The adequacy of the management plan to achieve the objectives of the proposed project on time and within budget, including clearly defined responsibilities, timelines, and milestones for accomplishing project tasks. (34 CFR 75.210(g)(2)(i))

(b) The adequacy of procedures for ensuring feedback and continuous improvement in the operation of the proposed project. (34 CFR 75.210(g)(2)(ii))

(c) The extent to which the time commitments of the project director and principal investigator and other key project personnel are appropriate and adequate to meet the objectives of the proposed project. (34 CFR 75.210(g)(2)(iv))

(v) Quality of the project evaluation (0-10 points) The Secretary considers the quality of the evaluation to be conducted of the proposed project. In determining the quality of the evaluation, the Secretary considers the following factors:

(a) The extent to which the methods of evaluation are thorough, feasible, and appropriate to the goals, objectives, and outcomes of the proposed project. (34 CFR 75.210(h)(2)(i))

(b) The extent to which the methods of evaluation include the use of objective performance measures that are clearly related to the intended outcomes of the project and will produce quantitative and qualitative data to the extent possible. (34 CFR 75.210(h)(2)(iv))

VI. Award Administration Information

1. Award Notices: If your pre-application is successful, we notify you in writing and post the list of successful applicants on the Early Reading First Web site at http://www.ed.gov/programs/earlyreading/awards.html. If your full application is successful, we notify your U.S. Representative and U.S. Senators and send you a Grant Award Notification (GAN). We may also notify you informally.

If your pre-application is not evaluated, or following the submission of your pre-application you are not invited to submit a full application, we notify you. If your full application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. Early Reading First grantees also are required to meet the annual reporting requirements outlined in section 1225 of the ESEA. For specific requirements on grantee reporting, please go to: http://www.ed.gov/fund/grant/apply/appforms/appforms.html.

4. Performance Measures: Under the Government Performance and Results Act (GPRA), the Secretary has established the following three (3) measures for evaluating the overall effectiveness of the Early Reading First program: (1) The percentage of preschool age children participating in Early Reading First programs who achieve significant gains on oral language skills as measured by the Peabody Picture Vocabulary Test-III, Receptive; (2) the percentage of preschool age children participating in Early Reading First programs who demonstrate age-appropriate oral language skills as measured by the Peabody Picture Vocabulary Test-III, Receptive; and (3) the average number of letters that preschool age children are able to identify as measured by the Upper Case Alphabet Knowledge subtask on the PALS Pre-K assessment.

All grantees must provide information on these performance measures in the annual performance report referred to in section VI.3. of this notice.

VII. Agency Contact

For Further Information Contact: Pilla Parker, U.S. Department of Education, 400 Maryland Avenue, SW., room 3C136, Washington, DC 20202-6132. Telephone: (202) 260-3710 or by e-mail: Pilla.Parker@ed.gov; or Rebecca Haynes, U.S. Department of Education, 400 Maryland Avenue, SW., room 3C138, Washington, DC 20202-6132. Telephone: (202) 260-0968 or by e-mail: Rebecca.Haynes@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister/.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 17, 2007.
Raymond Simon,
Deputy Secretary for Education.

[FR Doc. E7-834 Filed 1-19-07; 8:45 am]

BILLING CODE 4000-01-P